DEPARTMENT OF COMMERCE

Foreign-Trade Zones Board

[Docket 58-2008]

Foreign-Trade Zone 163—Ponce, PR; Application for Expansion

An application has been submitted to the Foreign-Trade Zones (FTZ) Board (the Board) by CODEZOL, C.D., grantee of FTZ 163, requesting authority to expand its zone in the Ponce, Puerto Rico, area, adjacent to the Ponce Customs and Border Protection port of entry. The application was submitted pursuant to the provisions of the Foreign-Trade Zones Act, as amended (19 U.S.C. 81a-81u), and the regulations of the Board (15 CFR Part 400). It was formally filed on October 8, 2008.

FTZ 163 was approved on October 18, 1989 (Board Order 443, 54 FR 46097, 11/01/89) and expanded on April 18, 2000 (Board Order 1091, 65 FR 24676, 4/27/00), on June 9, 2005 (Board Order 1397, 70 FR 36117, 6/22/05), on July 26, 2006 (Board Order 1467, 71 FR 44996, 8/8/06), and on November 9, 2006 (Board Order 1487, 71 FR 67098, 11/20/06).

The zone project currently consists of the following sites in Puerto Rico: Site 1 (106 acres)—within the Port of Ponce area, including a site (11 acres) located at 3309 Avenida Santiago de Los Caballeros, Ponce; Site 2 (191 acres, 5 parcels)—Peerless Oil & Chemicals, Inc., Petroleum Terminal Facilities located at Rt. 127, Km. 17.1, Penuelas; Site 3 (13 acres, 2 parcels)—Rio Piedras Distribution Center located within the central portion of the Quebrada Arena Industrial Park, and the Hato Rey Distribution Center located within the northeastern portion of the Tres Monjitas Industrial Park, San Juan; Site 4 (14 acres)—warehouse facility located at State Road No. 3, Km. 1401, Guayama; Site 5 (256 acres, 34 parcels)—located at Mercedita Industrial Park at the intersection of Route PR-9 and Las Americas Highway, Ponce; Site 6 (86 acres)—Coto Laurel Industrial Park located at the southwest corner of the intersection of Highways PR-56 and PR-52, Ponce; Site 7 (17 acres)—warehouse facility located at State Road No. 1, Km. 21.1, Guaynabo; Site 8 (5 acres)—warehouse facility located at 42 Salmon Street, Ponce; and, Site 9 (6 acres)—warehouse facility located on PR Highway 2, at Km. 165.2, Hormigueros.

The applicant is now requesting authority to expand the general-purpose zone to include an additional site: Proposed Site 10 (6 acres)—warehouse facility at Centro de Distribucion, Playa de Ponce, Building 7, Avenue de los Caballeros, Ponce. The site will provide public warehousing and distribution services to area businesses. No specific manufacturing authority is being requested at this time. Such requests would be made to the Board on a case-by-case basis.

In accordance with the Board's regulations, Kathleen Boyce of the FTZ Staff is designated examiner to investigate the application and report to the Board.

Public comment is invited from interested parties. Submissions (original and 3 copies) shall be addressed to the Board's Executive Secretary at the address below. The closing period for their receipt is December 16, 2008. Rebuttal comments in response to material submitted during the foregoing period may be submitted during the subsequent 15-day period (to December 31, 2008).

A copy of the application and accompanying exhibits will be available for public inspection at each of the following locations: CODEZOL, C.D, Tourist Pier Offices, Avenida of the Caballeros, Ponce, Puerto Rico 00716-2009; and, the Office of the Executive Secretary, Foreign-Trade Zones Board, Room 2111, U.S. Department of Commerce, 1401 Constitution Avenue, NW., Washington, DC 20230.

For further information, contact Kathleen Boyce at 202-482-1346 or Kathleen_Boyce@ita.doc.gov.

Dated: October 8, 2008.
Andrew McGilvray,
Executive Secretary.

[FR Doc. E8-24759 Filed 10-16-08; 8:45 am]

BILLING CODE 3510-DS-P